ENVIRONMENTAL PROTECTION AGENCY

40 CFR Part 271

[FRL-7885-6]

Georgia: Final Authorization of State Hazardous Waste Managaement Program Revision

AGENCY: Environmental Protection Agency (EPA).

ACTION: Immediate final rule; reopening of comment period and stay of effective date.

SUMMARY: The EPA is announcing a stay of the immediate final rule published in the Federal Register of January 27, 2005 (70 FR 3894), authorizing revisions to Georgia's hazardous waste management program under the Resource Conservation and Recovery Act (RCRA) and the Hazardous and Solid Waste Amendments of 1984 (HSWA). The effect of the stay is to allow for an extended public comment period. EPA did not publish a public notice in the newspaper concurrent with publication of the Federal Register notice published on January 27, 2005. Therefore, since EPA is committed to its policy of ensuring public involvement in the decision-making process, EPA is reopening the comment period.

DATES: Effective February 24, 2005, the immediate final rule published on January 27, 2005 (70 FR 3894), is stayed until April 20, 2005. EPA will accept comments until March 20, 2005. If no adverse comments are received by March 20, 2005, the stay will expire, and the January 27, 2005, immediate final rule will take effect without further notice on April 20, 2005.

FOR FURTHER INFORMATION CONTACT: Audrey E. Baker, Georgia Authorizations Coordinator, RCRA Programs Branch, Waste Management Division, U.S. Environmental Protection Agency, The Sam Nunn Federal Center, 61 Forsyth Street, SW., Atlanta, Georgia 30303-8960; (404) 562-8483.

Dated: March 10, 2005.
A. Stanley Meiburg,
Deputy Regional Administrator, Region 4.

[FR Doc. 05-5320 Filed 3-16-05; 8:45 am]

BILLING CODE 6560-50-M